DEPARTMENT OF ENERGY

10 CFR Parts 429 and 430

[EERE-2012-BT-STD-0045]

RIN 1904-AC87

Energy Conservation Program: Energy Conservation Standards for Ceiling Fan Light Kits; Correction

AGENCY: Office of Energy Efficiency and Renewable Energy, Department of Energy.

ACTION: Final rule; correcting amendments.

SUMMARY: The U.S. Department of Energy (DOE) is publishing this final rule to correct references to the compliance date for energy conservation standards for ceiling fan light kits (CFLKs) and correct inaccurate cross-references to these standards. On May 16, 2018, DOE published a final rule that amended the energy conservation standards for CFLKs, which contained some inadvertent errors. This document corrects those errors.

DATES: Effective March 8, 2019.

FOR FURTHER INFORMATION CONTACT:

Ms. Lucy deButts, U.S. Department of Energy, Office of Energy Efficiency and Renewable Energy, Building Technologies Program, EE-2J, 1000 Independence Avenue SW, Washington, DC 20585-0121. Telephone: (202) 287-1604. Email: ApplianceStandardsQuestions@ee.doe.gov.

Elizabeth Kohl, U.S. Department of Energy, Office of the General Counsel, GC-33, 1000 Independence Avenue SW, Washington, DC 20585-0121. Telephone: (202) 586-7796. Email: Elizabeth.Kohl@hq.doe.gov.

SUPPLEMENTARY INFORMATION: Title III, Part B ¹ of the Energy Policy and Conservation Act of 1975, as amended (EPCA),² established the Energy Conservation Program for Consumer Products Other Than Automobiles. (42 U.S.C. 6291-6309) These products include CFLKs, the subject of this document. Section 325(ff)(5) of EPCA authorizes DOE to consider amended standards for CFLKs. (42 U.S.C. 6295(ff)(5)) On January 6, 2016 DOE published a final rule amending energy conservation standard for CFLKs with a compliance date of 3 years after the date of issuance, i.e., January 7, 2019. 81 FR 580. Section 325(ff)(5) required that the compliance date of the standards be at least 2 years after the date of issuance, and the 3 year lead time DOE specified in the final standards rule is consistent with other provisions of EPCA that require a 3-year lead time for some products. (42 U.S.C. 6295(ff)(5)(B)) Section 325(ff)(6) of EPCA also authorizes DOE to consider amended standards for ceiling fans, as a separate product under the statute. (42 U.S.C. 6295(ff)(6)) On January 19, 2017 DOE published a final rule amending energy conservation standards for ceiling fans with a compliance date of January 21, 2020. 82 FR 6826. Section 325(ff)(6) did not have a similar provision regarding the compliance date for ceiling fan standards; however, as with the CFLK rule, the 3 year lead time DOE specified in the final standards rule is consistent with other provisions of EPCA that require a 3-year lead time for some products.

¹ For editorial reasons, upon codification in the U.S. Code, Part B was redesignated Part A.

² All references to EPCA in this document refer to the statute as amended through America's Water Infrastructure Act of 2018, Public Law 115-270 (October 23, 2018).

After DOE's promulgation of final rules establishing energy conservation standards for CFLKs and ceiling fans, Congress enacted S. 2030, the “Ceiling Fan Energy Conservation Harmonization Act” (“the Act”), which was signed into law as Public Law 115-161 on April 3, 2018. The Act amended the compliance date for the CFLK standards to establish a single compliance date for the energy conservation standards for both CFLKs and ceiling fans. The Act also required that DOE, not later than 60 days after the date of enactment, make any technical and conforming changes to any regulation, guidance document, or procedure necessary to implement the changed compliance date. On May 16, 2018 DOE published a final rule that amended the compliance date for CFLKs at 10 CFR 430.32(s)(3), (4), (5), and (6) by replacing “January 7, 2019” with “January 21, 2020” (hereafter 2018 CFLK Correction final rule). 83 FR 22587. DOE also updated a cross reference in 10 CFR 430.32(s)(5), changing the reference to paragraphs “(s)(2) or (3)” to paragraphs “(s)(3) or (4).” Paragraph (s)(5) provides requirements for ceiling fan light kits other than those specified in the cross-referenced paragraphs, which were not updated when the new ceiling fan standards were codified as paragraph (s)(2). However, in that rule certain sections of the CFR that should also have been corrected to reflect the accurate compliance date and cross-references to energy conservation standards were not.

In this final rule, DOE is amending 10 CFR 430.23 and 10 CFR 429.33 to reference uniformly the correct compliance date for CFLK energy conservation standards. Specifically, DOE is amending the CFLK test procedure provisions at 10 CFR 430.23(x)(2) and certification provisions at 10 CFR 429.33(a)(3) by replacing in these paragraphs the text “January 7, 2019” with “January 21, 2020.”

In addition, DOE is amending incorrect cross-references to CFLK energy conservation standards. Specifically, the certification provisions at 10 CFR 429.33(a)(2)(v) currently cite 10 CFR 430.32(s)(4) in reference to energy conservation standards for CFLKs with sockets or packaged with lamps other than medium screw bases or pin-bases. However, 10 CFR 430.32(s)(4) specifies energy conservation requirements for CFLKs with pin-based sockets for fluorescent lamps. Energy conservation requirements for CFLKs with socket types other than medium screw base or pin-based are specified in 10 CFR 430.32(s)(5). Therefore, DOE is amending 10 CFR 429.33(a)(2)(v) by replacing “10 CFR 430.32(s)(4)” with “10 CFR 430.32(s)(5).” Further 10 CFR 430.32(s)(3)(i) and (ii) respectively, reference paragraphs (s)(2)(ii) and (s)(2)(i) in that section with regards to requirements for compact fluorescent lamps. However, 10 CFR 430.32(s)(2)(i) and (ii) only specify requirements related to ceiling fans. The requirements for compact fluorescent lamps are specified in 10 CFR 430.32(s)(3)(i) and (ii). Therefore, DOE is amending 10 CFR 430.32(s)(3) by replacing “(s)(2)(ii)” with “(s)(3)(ii)” and replacing “(s)(2)(i)” with “(s)(3)(i).”

Procedural Issues and Regulatory Review

The regulatory reviews conducted for this rulemaking are those set forth in the 2018 CFLK Correction final rule. In light of the applicable statutory requirement enacted by Congress to deem the compliance date for CFLK standards to be January 21, 2020, the absence of any benefit in providing comment given that the rule incorporates the specific requirement established by Public Law 115-161, DOE finds that there is good cause under 5 U.S.C. 553(b)(B) to not provide prior notice and an opportunity for public comment on the actions outlined in this document to implement Public Law 115-161. DOE similarly finds good cause under 5 U.S.C. 553(b)(B) to not provide prior notice and an opportunity for public comment on the update to the erroneous cross-reference. For these reasons, providing prior notice and an opportunity for public comment would, in this instance, be unnecessary and contrary to the public interest. For the same reason, DOE finds good cause pursuant to 5 U.S.C. 553(d)(3) to waive the 30-day delay in effective date for this rule. Neither the errors nor the corrections in this document affect the substance of the rulemaking that amended standards of CFLKs (81 FR 580; January 6, 2016) or any of the conclusions reached in support of the final rule.

List of Subjects

10 CFR Part 429

Administrative practice and procedure, Confidential business information, Energy conservation, Household appliances, Reporting and recordkeeping requirements.

10 CFR Part 430

Administrative practice and procedure, Confidential business information, Energy conservation, Household appliances, Imports, Intergovernmental relations, Reporting and recordkeeping requirements, and Small businesses.

Issued in Washington, DC, on February 28, 2019.
Steven Chalk,
Acting Deputy Assistant Secretary For Energy Efficiency, Energy Efficiency and Renewable Energy.

For the reasons stated in the preamble, parts 429 and 430 of title 10 of the Code of Federal Regulations are corrected by making the following correcting amendments:

PART 429—CERTIFICATION, COMPLIANCE, AND ENFORCEMENT FOR CONSUMER PRODUCTS AND COMMERCIAL AND INDUSTRIAL EQUIPMENT

1. The authority citation for part 429 continues to read as follows:

Authority: 42 U.S.C. 6291-6317.

§ 429.33 [Amended]

2. Section 429.33 is amended:

a. In paragraph (a)(2)(v) by removing the language “§ 430.32(s)(4)” and adding in its place “§ 430.32(s)(5)”; and

b. In paragraph (a)(3) by removing the language “January 7, 2019” and adding in its place “January 21, 2020”.

PART 430—ENERGY CONSERVATION PROGRAM FOR CONSUMER PRODUCTS

3. The authority citation for part 430 continues to read as follows:

Authority: 42 U.S.C. 6291-6309; 28 U.S.C. 2461 note.

§ 430.23 [Amended]

4. Section 430.23 is amended in paragraph (x)(2) introductory text by removing the language a “January 7, 2019” and adding in its place “January 21, 2020”.

§ 430.32 [Amended]

5. Section 430.32 is amended:

a. In paragraph (s)(3)(i) introductory text by removing the language “(s)(2)(ii)” and adding in its place “(s)(3)(ii)”; and

b. In paragraph (s)(3)(ii) by removing the language “(s)(2)(i)” and adding in its place “(s)(3)(i)”.

[FR Doc. 2019-04244 Filed 3-7-19; 8:45 am]

BILLING CODE 6450-01-P